DEPARTMENT OF EDUCATION

[CDFA Nos: 84.116A and 84.116B]

Office of Postsecondary Education, Fund for the Improvement of Postsecondary Education (FIPSE); Notice Announcing Technical Assistance Workshops on Fiscal Year (FY) 2003 Comprehensive Program

SUMMARY: This notice provides information about a workshop to assist individuals interested in learning more about the FY 2003 programs of the Fund for the Improvement of Postsecondary Education (FIPSE). Program staff will present program information and answer questions about FIPSE's programs. The workshop will focus primarily on the Comprehensive Program, which provides grants for innovative reform projects that hold promise as models for the resolution of important issues and problems in postsecondary education. Additional information about FIPSE's programs can be found on the Internet at the following site: http://www.ed.gov/FIPSE.

Although the Department has not yet announced in the Federal Register a closing date for its FY 2003 FIPSE grant competitions, the Department is holding this workshop to give potential applicants relevant background information on FIPSE programs for which grant competitions are expected to be held in FY 2003. Specific requirements for grant competitions will be announced in the Federal Register.

SUPPLEMENTARY INFORMATION: The technical assistance workshop will be held as follows:

Ontario/Los Angeles, California: Monday, December 2, 1-4 p.m.

• Hilton Ontario Airport, 700 North Haven Avenue, Ontario, CA 91764.

Registration: Space at the workshop is limited. Interested individuals are invited to register by sending an e-mail message with the subject “Workshop 2002” to: Levenia.ishmell@ed.gov. You will receive an e-mail reply confirming the status of your registration along with exact information on the workshop location. All confirmed registrants are asked to bring their printed e-mail confirmation to the workshop.

Assistance to Individuals With Disabilities Attending the Technical Assistance Workshops

The technical assistance workshop site is accessible to individuals with disabilities. If you will need an 1 auxiliary aid or service to participate in the workshop (e.g., interpreting service, assistive listening device, or materials in an alternative format) notify the contact person listed under FOR FURTHER INFORMATION CONTACT at least two weeks before the scheduled workshop date. Although we will attempt to meet a request received after this date, we may not be able to make available the requested auxiliary aid or service because of insufficient time to arrange it.

FOR FURTHER INFORMATION CONTACT: Levenia Ishmell, U.S. Department of Education, 1990 K Street NW., room 8031, Washington, DC 20006-8544. Telephone: (202) 502-7668 or by e-mail: levenia.ishmell@ed.gov. If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Electronic Access to this Document

You may view this document, as well as all other Department of Education documents published in the Federal Register, in text or Adobe Portable Document Format (PDF) on the Internet at the following site: http://www.ed.gov/legislation/FedRegister.

To use PDF you must have Adobe Acrobat Reader, which is available free at either site. If you have questions about using PDF, call the U.S. Government Printing Office (GPO), toll free at 1-888-293-6498, or in the Washington, DC area at (202) 512-1530.

Note: The official version of this document is the document published in the Federal Register. Free Internet access to the official edition of the Federal Register and the Code of Federal Regulations is available on GPO Access at: http://www.access.gpo.gov/nara/index.html.

Program Authority: 20 U.S.C. 1138-1138d.

Dated: November 21, 2002.
Jeffrey R. Andrade,
Deputy Assistant Secretary for Policy, Planning, and Innovation.

[FR Doc. 02-29977 Filed 11-25-02; 8:45 am]

BILLING CODE 4000-01-P